DEPARTMENT OF TRANSPORTATION

Federal Aviation Administration

Public Notice for Waiver of Aeronautical Land Use Assurance Durango-La Plata County Airport, Durango, Colorado

AGENCY: Federal Aviation Administration, (FAA), DOT.

ACTION: Notice of request to waive aeronautical land use assurance.

SUMMARY: The FAA proposes to rule and invite public comment on a proposal from the Durango-La Plata County Airport, Aviation Director to change a portion of the airport from aeronautical use to non-aeronautical use at Durango-La Plata County Airport, Durango, Colorado. The proposal involves a parcel of airport property on the Southeast side of the airfield.

DATES: Comments are due within 30 days of the date of the publication of this notice in the Federal Register. Emailed comments can be provided to Mr. John Sweeney, Lead Planner, Denver Airports District Office, john.sweeney@faa.gov, (303) 342-1263.

FOR FURTHER INFORMATION CONTACT: Mr. Tony Vicari, Aviation Director, Durango-La Plata County Airport, 1000 Airport Road, Durango, CO 81303, tony.vicari@durangogov.org, (970) 382-6052; or John Sweeney, Lead Planner, Denver Airports District Office, 26805 E 68th Ave., Suite 224, Denver, CO 80249, john.sweeney@faa.gov, (303) 342-1263. Documents reflecting this FAA action may be reviewed at the above locations.

SUPPLEMENTARY INFORMATION: The FAA invites public comment on the request to change a portion of the airport from aeronautical use to non-aeronautical use under the provisions of title 49, U.S.C. 47153(c), and 47107(h)(2). The proposal consists of 25.29 acres located South of County Road 309A. The land is currently identified as non-aeronautical use on the Airport Layout Plan (ALP), although no formal release from aeronautical obligations was previously granted. This section of Parcel Q is separated from the majority of airport property by County Road 309A. The FAA concurs that the parcel is no longer needed for airport purposes. The proposed use of this property is compatible with existing airport operations in accordance with FAA's Policy and Procedures Concerning the Use of Airport Revenue, as published in the Federal Register on February 16, 1999.

Issued in Denver, Colorado, on March 13, 2023.
John P. Bauer,
Manager, Denver Airports District Office.

[FR Doc. 2023-05414 Filed 3-16-23; 8:45 am]

BILLING CODE 4910-13-P